ENVIRONMENTAL PROTECTION AGENCY

[EPA-HQ-OPP-2010-1065; FRL-8854-8]

Product Cancellation Order for Certain Pesticide Registrations

AGENCY: Environmental Protection Agency (EPA).

ACTION: Notice.

SUMMARY: This notice announces EPA's order for the cancellations, voluntarily requested by the registrants and accepted by the Agency, of the products listed in Tables 1A and 1B of Unit II., pursuant to section 6(f)(1) of the Federal Insecticide, Fungicide, and Rodenticide Act (FIFRA), as amended. This cancellation order follows two Notices of Receipt of Requests from the respective registrants listed in Table 2 of Unit II. The notice dated August 25, 2010, pertains to the fenoxycarb product registrations and the notice dated August 18, 2010, pertains to the propetamphos product registrations. In those notices, EPA indicated that it would issue an order implementing the cancellations, unless the Agency received substantive comments within the 30-day comment periods that would merit its further review of these requests, or unless the registrants withdrew their requests. The Agency did not receive any comments on the notice for fenoxycarb or propetamphos and neither request was withdrawn. Accordingly, EPA hereby issues in this notice a cancellation order granting the requested cancellations. Any distribution, sale, or use of the products subject to this cancellation order is permitted only in accordance with the terms of this order, including any existing stocks provisions.

DATES: The cancellations are effective as provided in Unit IV.

FOR FURTHER INFORMATION CONTACT: Matthew Lloyd, Pesticide Re-evaluation Division (7508P), Office of Pesticide Programs, Environmental Protection Agency, 1200 Pennsylvania Ave., NW., Washington, DC 20460-0001; telephone number: (703) 308-0130; fax number: (703) 308-8090; e-mail address: Lloyd.Matthew@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for the fenoxycarb action under docket identification (ID) number EPA-HQ-OPP-2010-0623. EPA has established a docket for the propetamphos action under docket identification (ID) number EPA-HQ-OPP-2007-1195. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is the agency taking?

This notice announces the cancellation, as requested by registrants, of products registered under FIFRA section 3. These registrations are listed in sequence by registration number in Tables 1A and 1B of this unit.

Table 1A—Fenoxycarb Product Cancellations
EPA registration No. | Product name
100-722 | Award Fire Ant Bait.
100-723 | Fenoxycarb Technical.
499-437 | Whitmire PT 2120 TF Preclude.

Table 1B—Propetamphos Product Cancellations
EPA registration No. | Product name
002724-00313 | Propetamphos Technical.
002724-00450 | Zoecon 9001 EW.

Table 2 of this unit includes the names and addresses of record for all registrants of the products in Tables 1A and 1B of this unit, in sequence by EPA company number. This number corresponds to the first part of the EPA registration numbers of the products listed in Tables 1A and 1B of this unit.

Table 2—Registrants of Canceled Products
EPA company No. | Company name and address
100 | Syngenta Crop Protection, Inc., P.O. Box 18300, Greensboro, NC 27419-8300.
499 | Whitmire Micro-Gen Research Laboratories, Inc., 3568 Tree Court Industrial Blvd., St. Louis, MO 63122-6682.
002724 | Wellmark International, Attn: James McFadden, 1501 E. Woodfield Rd., Suite 200 West, Schaumberg, IL 60173.

III. Summary of Public Comments Received and Agency Response to Comments

During the public comment period provided, EPA received no comments in response to the August 18, 2010 or August 25, 2010 Federal Register notices announcing the Agency's receipt of the requests for voluntary cancellations of products listed in Tables 1A and 1B, respectively, of Unit II.

IV. Cancellation Order

Pursuant to FIFRA section 6(f), EPA hereby approves the requested cancellations of the registrations identified in Tables 1A and 1B of Unit II. Accordingly, for the fenoxycarb registrations (Table 1A), the Agency hereby orders that Syngenta Crop Protection, Inc.'s technical product (EPA Reg. No. 100-723) and the Whitmire Micro-Gen Research Laboratories, Inc.'s end-use product (EPA Reg. No. 499-437) are canceled effective immediately. The Agency further orders that Syngenta Crop Protection Inc.'s end-use product (EPA Reg. No. 100-722) is canceled effective December 31, 2012.

For the propetamphos registrations (Table 1B), the Agency hereby orders that propetamphos technical product (EPA Reg. No. 2724-313) is canceled effective immediately. The Agency further orders that the propetamphos end-use product (EPA Reg. No. 2724-450) is canceled effective March 30, 2012.

Any distribution, sale, or use of existing stocks of the products identified in Table 1A and 1B of Unit II. in a manner inconsistent with any of the provisions for disposition of existing stocks set forth in Unit VI. will be a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for the fenoxycarb action was published for comment in the Federal Register issue of August 25, 2010 (75 FR 53240) (FRL-8843-1). The comment period for fenoxycarb closed on September 24, 2010. The notice of receipt for the propetamphos action was published for comment in the Federal Register issue of August 18, 2010 (75 FR 51053) (FRL-8840-3). The comment period for propetamphos closed on September 17, 2010.

VI. Provisions for Disposition of Existing Stocks

Existing stocks are those stocks of registered pesticide products which are currently in the United States and which were packaged, labeled, and released for shipment prior to the effective date of the cancellation action. The existing stocks provisions for the products subject to this order are as follows.

A. Disposition of Existing Stocks for All Fenoxycarb (Table 1A) Products

Syngenta Crop Protection, Inc. is prohibited from using, selling, or distributing technical fenoxycarb (EPA Reg. No. 100-723), except for (i) Export consistent with FIFRA section 17, (ii) for proper disposal, or (iii) to formulate existing stocks of the technical fenoxycarb (EPA Reg. No. 100-723) into its end-use product (EPA Reg. No. 100-722) effective immediately. After December 31, 2012, Syngenta Crop Protection, Inc. is prohibited from selling or distributing its end-use product (EPA Reg. No. 100-722), except for export consistent with FIFRA section 17 or for proper disposal. Persons other than Syngenta Crop Protection, Inc. are allowed to sell, distribute, and use existing stocks of the canceled end-use product (EPA Reg. No. 100-722) until supplies are exhausted, provided that such sale, distribution, and use is consistent with the terms of the previously approved labeling on, or that accompanied, the canceled product.

Whitmire Micro-Gen Research Laboratories, Inc. is permitted to sell and distribute existing stocks of its end-use fenoxycarb product (EPA Reg. No. 499-437) until December 31, 2013. Thereafter, Whitmire Micro-Gen Research Laboratories, Inc. is prohibited from selling or distributing its end-use product (EPA Reg. No. 499-437), except for export consistent with FIFRA section 17 or for proper disposal. Persons other than Whitmire Micro-Gen Research Laboratories, Inc. are allowed to sell, distribute, and use existing stocks of the canceled end-use product (EPA Reg. No. 499-437) until supplies are exhausted, provided that such sale, distribution, and use is consistent with the terms of the previously approved labeling on, or that accompanied, the canceled product.

B. Disposition of Existing Stocks for All Table 1B Products

Wellmark International is prohibited from using, selling, or distributing propetamphos technical (EPA Reg. No. 2724-313), except for (i) Export consistent with FIFRA section 17, (ii) for proper disposal or (iii) to formulate existing stocks of propetamphos technical (EPA Reg. No. 2724-313) into its propetamphos end-use product (EPA Reg. No. 2724-450) effective immediately. After March 30, 2012, Wellmark International is prohibited from using, as well as continuing to be prohibited from selling or distributing, its propetamphos technical (EPA Reg. No. 2724-313), except for export consistent with FIFRA section 17 or for proper disposal.

The cancellation of the propetamphos end-use product (EPA Reg. No. 2724-450) is effective March 30, 2012. Wellmark International is permitted to sell or distribute existing stocks of the canceled end-use product (EPA Reg. No. 2724-450) until such stocks are exhausted. Persons other than Wellmark International are allowed to sell, distribute, and use existing stocks of the canceled propetamphos end-use product (EPA Reg. No 2724-450) until supplies are exhausted, provided that such sale, distribution, and use is consistent with the terms of the previously approved labeling on, or that accompanied, the canceled product. The existing stocks provisions outlined in this notice are intended to allow depletion of the amount of technical propetamphos (EPA Reg. No. 2724-313) that Wellmark International currently has on-hand from purchases made prior to its decision to request voluntary cancellation. Use until depletion will preclude environmental disposal concerns of quantities of undiluted propetamphos that cannot be formulated or used.

List of Subjects

Environmental protection, Pesticides, Pests.

Dated: December 14, 2010.
Richard P. Keigwin, Jr.,
Director, Pesticide Re-Evaluation Division, Office of Pesticide Programs.

[FR Doc. 2010-32923 Filed 12-29-10; 8:45 am]

BILLING CODE 6560-50-P